DEPARTMENT OF COMMERCE

International Trade Administration

[A-201-836]

Light-Walled Rectangular Pipe and Tube From Mexico: Final Results of Antidumping Duty Administrative Review; 2018-2019

AGENCY: Enforcement and Compliance, International Trade Administration, Department of Commerce.

SUMMARY: The Department of Commerce (Commerce) determines that light-walled rectangular pipe and tube from Mexico was sold in the United States at less than normal value during the period of review (POR) August 1, 2018, through July 31, 2019.

DATES: Applicable June 25, 2021.

FOR FURTHER INFORMATION CONTACT: Kyle Clahane or John Conniff, AD/CVD Operations, Office III, Enforcement and Compliance, International Trade Administration, U.S. Department of Commerce, 1401 Constitution Avenue NW, Washington DC 20230; telephone: (202) 482-5449 or (202) 482-1009, respectively.

SUPPLEMENTARY INFORMATION:

Background

On December 23, 2020, Commerce published the Preliminary Results.¹ On March 31, 2021, Commerce extended the deadline for these final results.² For a complete description of the events that occurred since the Preliminary Results, see the Issues and Decision Memorandum.³

¹ See Light-Walled Rectangular Pipe and Tube from Mexico: Preliminary Results and Partial Rescission of Antidumping Duty Administrative Review; 2018-2019, 85 FR 83886 (December 23, 2020) (Preliminary Results), and accompanying Preliminary Decision Memorandum (PDM).

² See Memorandum, “Light-Walled Rectangular Pipe and Tube from Mexico: Extension of Deadline for the Final Results of Antidumping Duty Administrative Review; 2018-2019,” dated March 31, 2021.

³ See Memorandum, “Issues and Decision Memorandum for Light-Walled Rectangular Pipe and Tube from Mexico: Final Results and Partial Rescission of Antidumping Duty Administrative Review; 2018-2019,” dated concurrently with, and hereby adopted by, this notice (Issues and Decision Memorandum).

Scope of the Order

The products covered by this order are light-walled rectangular pipe and tube from Mexico. For a full description of the scope, see the Issues and Decision Memorandum.⁴

⁴ Id.

Analysis of Comments Received

All issues raised in the case and rebuttal briefs are addressed in the Issues and Decision Memorandum. A list of the issues addressed in the Issues and Decision Memorandum is provided in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at http://enforcement.trade.gov/frn/.

Changes Since the Preliminary Results

Based on the comments received, we made changes for these final results which are explained in the Issues and Decision Memorandum.⁵

⁵ Id.

Final Results of the Review

As a result of this review, Commerce determines the following weighted-average dumping margins exist for the mandatory respondents, Maquilacero S.A. de C.V. (Maquilacero) and Regiomontana de Perfiles y Tubos S. de R.L. de C.V. (Regiopytsa), for the period August 1, 2018, through July 31, 2019. In accordance with section 735(c)(5)(A) of the Tariff Act of 1930, as amended (the Act), Commerce calculated a weighted-average dumping margin for the firms not selected for individual examination using the weighted-average dumping margins calculated for the mandatory respondents, which are not zero, de minimis, or determined entirely on the basis of facts available.⁶

⁶ In the case of two mandatory respondents, our practice is to calculate: (A) A weighted average of the dumping margins calculated for the mandatory respondents; (B) a simple average of the dumping margins calculated for the mandatory respondents; and (C) a weighted average of the dumping margins calculated for the mandatory respondents using each company's publicly ranged values for the merchandise under consideration. We compare (B) and (C) to (A) and select the rate closest to (A) as the most appropriate rate for all other companies. See Certain Crystalline Silicon Photovoltaic Products from Taiwan: Final Results of Antidumping Duty Administrative Review; 2014-2016, 82 FR 31555, 31556 (July 7, 2017). We have applied that practice here. See Memorandum, “Antidumping Duty Administrative Review of Light-Walled Rectangular Pipe and Tube from Mexico: Calculation of Margin for Respondents Not Selected for Individual Examination,” dated concurrently with this notice.

Exporter/producer | Weighted-average dumping margin (percent)
Maquilacero S.A. de C.V. and Tecnicas de Fluidos S.A. de C.V | 4.23
Regiomontana de Perfiles y Tubos S. de R.L. de C.V. (formerly Regiomontana de Perfiles y Tubos S.A. de C.V.) ⁷ | 5.44
Aceros Cuatro Caminos S.A. de C.V | 4.92
Fabricaciones y Servicios de Mexico | 4.92
Grupo Estructuras y Perfiles | 4.92
Perfiles LM, S.A. de C.V | 4.92
Productos Laminados de Monterrey S.A. de C.V | 4.92

Disclosure of Calculations

⁷ In the Preliminary Results, we preliminarily determined that Regiomontana de Perfiles y Tubos S. de R.L. de C.V. to be successor-in-interest to Regiomontana de Perfiles y Tubos S.A. de C.V. We did not receive comments from interested parties on this finding. Accordingly, we continue to determine that it is the successor-in-interest. For additional information on Commerce's analysis regarding the successor-in-interest finding. See Preliminary Results PDM at 6.

We intend to disclose the calculations performed in connection with these final results to parties in this proceeding within five days after the date of publication of this notice, in accordance with 19 CFR 351.224(b).

Assessment Rates

Pursuant to section 751(a)(2)(A) of the Act, and 19 CFR 351.212(b)(1), Commerce will determine, and U.S. Customs and Border Protections (CBP) shall assess, antidumping duties on all appropriate entries of subject merchandise in accordance with the final results of this review. For each individually examined respondent whose weighted-average dumping margin is not zero or de minimis (i.e., less than 0.50 percent), we calculated importer-specific ad valorem duty assessment rates based on the ratio of the total amount of dumping calculated for each importer's examined sales and the total entered value of the sales in accordance with 19 CFR 351.212(b)(1).

For each company which was not individually examined whose weighted-average dumping margin is not zero or de minimis, we will instruct CBP to assess antidumping duties at an ad valorem rate equal to each company's weighted-average dumping margin noted above. Where a non-examined company's weighted-average dumping margin is zero or de minimis, we will instruct CBP to liquidate the appropriate entries without regard to antidumping duties.

For entries of subject merchandise during the POR produced by each respondent for which it did not know its merchandise was destined for the United States, we will instruct CBP to liquidate such entries at the all-others rate if there is no rate for the intermediate company(ies) involved in the transaction.

Commerce intends to issue assessment instructions to CBP no earlier than 41 days after the date of publication of the final results of this review in the Federal Register, in accordance with 19 CFR 356.8(a).

Cash Deposit Requirements

The following cash deposit requirements will be effective upon publication of the notice of final results of administrative review for all shipments of the subject merchandise entered, or withdrawn from warehouse, for consumption on or after the publication, as provided by section 751(a)(2)(C) of the Act: (1) The cash deposit rate for the companies listed above will be the rate established in the final results of this administrative review; (2) for merchandise exported by producers or exporters not covered in this administrative review but covered in a prior segment of the proceeding, the cash deposit rate will continue to be the company-specific rate published for the most recently completed segment of this proceeding; (3) if the exporter is not a firm covered in this review, a prior review, or the original less-than-fair-value (LTFV) investigation, but the producer is, the cash deposit rate will be the rate established for the most recently completed segment of this proceeding for the producer of the subject merchandise; and (4) the cash deposit rate for all other manufacturers or exporters will continue to be 3.76 percent, the all-others rate established in the LTFV investigation.⁸ These cash deposit requirements, when imposed, shall remain in effect until further notice.

⁸ See Light-Walled Rectangular Pipe and Tube from Mexico, the People's Republic of China, and the Republic of Korea: Antidumping Duty Orders; Light-Walled Rectangular Pipe and Tube from the Republic of Korea: Notice of Amended Final Determination of Sales at Less Than Fair Value, 73 FR 45403 (August 5, 2008).

Notification to Importers

This notice serves as a final reminder to importers of their responsibility under 19 CFR 351.402(f)(2) to file a certificate regarding the reimbursement of antidumping duties prior to liquidation of the relevant entries during this POR. Failure to comply with this requirement could result in the Commerce's presumption that reimbursement of antidumping duties has occurred and the subsequent assessment of double antidumping duties.

Administrative Protective Order

This notice also serves as a final reminder to parties subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

Notification to Interested Parties

We are issuing and publishing this notice in accordance with sections 751(a)(1) and 777(i)(1) of the Act, and 19 CFR 351.221(b)(5) and 19 CFR 351.213(h).

Dated: June 21, 2021.
James Maeder,
Deputy Assistant Secretary for Antidumping and Countervailing Duty Operations.

Appendix—List of Topics Discussed in the Issues and Decision Memorandum

I. Summary

II. Background

III. Scope of the Order

IV. Successor-in-Interest

V. Analysis of Comments

Comment 1: Whether Commerce Should Revise the Model Match Criteria

Comment 2: Whether Commerce Should Adjust Maquilacero's Costs for Non-Prime Products

Comment 3: Whether Commerce Should Use Average Net Price to Value Maquilacero's Non-Prime Product

Comment 4: Whether Commerce Should Adjust the Selling, General, and Administrative (SG&A) Cost Calculation Maquilacero Provided for Tecnicas de Fluidos S.A. de C.V. (TEFLU)

Comment 5: Whether Commerce Should Revise Its Adjustment to Maquilacero's Costs for Coil Obtained From Affiliated Parties

Comment 6: Whether Commerce Should Recalculate the Adjustment to Maquilacero's Scrap Offset

Comment 7: Whether Commerce Should Adjust TEFLU's Further Processing Costs

Comment 8: Whether Maquilacero's and TEFLU's Sales Were Made at the Same Level of Trade

Comment 9: Whether Commerce Should Collapse Maquilacero and TEFLU

Comment 10: Whether Commerce Should Make Certain Changes to Maquilacero's SAS Programs

Comment 11: Whether Commerce Should Assign Perfiles the Weighted-Average Dumping Margin It Received as a Mandatory Respondent in the 2013-2014 Administrative Review

VI. Recommendation

[FR Doc. 2021-13550 Filed 6-24-21; 8:45 am]

BILLING CODE 3510-DS-P